SMALL BUSINESS ADMINISTRATION

National Women's Business Council Meeting

U.S. Small Business Administration.

ACTION: Notice of open Federal advisory committee meeting.

SUMMARY: The SBA is issuing this notice to announce the location, date, time, and agenda for the next meeting of the National Women's Business Council (NWBC). The meeting will be open to the public.

DATES: The meeting will be held on March 1, 2012 from approximately 1:15 p.m. to 4 p.m. EST.

ADDRESSES: The meeting will be held at the U. S. Patent and Trademark Office, Madison Auditorium, 600 Dulany Street, Alexandria, Virginia 22314.

SUPPLEMENTARY INFORMATION: Pursuant to section 10(a)(2) of the Federal Advisory Committee Act (5 U.S.C., Appendix 2), SBA announces the meeting of the National Women's Business Council. The National Women's Business Council is tasked with providing policy recommendations on issues of importance to women business owners to the President, Congress, and the SBA Administrator.

The purpose of the meeting is to introduce the NWBC's research agenda and action items for fiscal year 2012 included but not limited to procurement, access to capital, access to training and technical assistance, and affordable health care. The topics to be discussed will include 2012 projects.

FOR FURTHER INFORMATION CONTACT: The meeting is open to the public however advance notice of attendance is requested. Anyone wishing to attend or make a presentation to the NWBC must either email their interest to info@nwbc.gov or call the main office number at 202-205-3850.

Those needing special accommodation in order to attend or participate in the meeting, please contact 202-205-3850 no later than February 27, 2012.

For more information, please visit our Web site at www.nwbc.gov.

Dan S. Jones,
SBA Committee Management Officer.

[FR Doc. 2012-3538 Filed 2-14-12; 8:45 am]

BILLING CODE P